DEPARTMENT OF COMMERCE

International Trade Administration

[A-201-838]

Seamless Refined Copper Pipe and Tube From Mexico: Notice of Partial Rescission of Antidumping Duty Administrative Review

AGENCY: Import Administration, International Trade Administration, Department of Commerce.

DATES: Effective Date: February 22, 2012.

FOR FURTHER INFORMATION CONTACT: Dennis McClure or Joy Zhang AD/CVD Operations, Office 3, Import Administration, International Trade Administration, U.S. Department of Commerce, 14th Street and Constitution Avenue NW., Washington, DC 20230; telephone: (202) 482-5973 or (202) 482-1168, respectively.

SUPPLEMENTARY INFORMATION:

Background

On November 1, 2011, the Department of Commerce (the “Department”) published a notice of opportunity to request an administrative review of the antidumping duty order on seamless refined copper pipe and tube from Mexico.¹ Pursuant to requests from interested parties,² the Department published in the Federal Register the notice of initiation of this antidumping duty administrative review with respect to the following companies for the period November 22, 2010, through October 31, 2011: GD Affiliates S. de R.L. de C.V. (“GD Affiliates”), Hong Kong GD Trading Co., Ltd., Nacional de Cobre, S.A. de C.V. (“Nacobre”), and IUSA, S.A. de C.V. (“IUSA”).³ On February 6, 2012, the Department received a letter from Petitioners withdrawing their November 28, 2011, request for a review of Nacobre, IUSA, and Hong Kong GD Trading Co., Ltd.

¹ See Antidumping or Countervailing Duty Order, Finding, or Suspended Investigation; Opportunity To Request Administrative Review, 76 FR 67413 (November 1, 2011).

² Cerro Flow Products, LLC, Wieland Copper Products, LLC, Muller Copper Tube Products, Inc., and Mueller Copper Tube Company, Inc. (collectively, “Petitioners”); GD Affiliates S. de R.L. de C.V., GD Affiliates Servicios S. de C.V., GD Copper Cooperatief UA, Golden Dragon Precise Copper Tube Group, Inc., Hong Kong GD Trading Co., Ltd., Golden Dragon Holding (Hong Kong) International, Ltd., and DC Copper (U.S.A.); and Nacional de Cobre, S.A. de C.V.

³ See Initiation of Antidumping and Countervailing Duty Administrative Reviews and Requests for Revocation in part, 76 FR 82268 (December 30, 2011) (“Initiation Notice”).

Partial Rescission of the First Administrative Review

Pursuant to 19 CFR 351.213(d)(1), the Secretary will rescind an administrative review, in whole or in part, if the parties that requested a review withdraw the request within 90 days of the date of publication of the notice of initiation of the requested review. This review was initiated on December 30, 2011. See Initiation Notice. Petitioners withdrew their request for a review of Nacobre, IUSA and Hong Kong GD Trading Co., Ltd. on February 6, 2012, which is within the 90-day deadline. While no other party requested an administrative review of IUSA, we received other requests for review of Nacobre and Hong Kong GD Trading Co., Ltd. Therefore, in accordance with 19 CFR 351.213(d)(1), and consistent with our practice, we are rescinding this review only with respect to IUSA.⁴ The review will continue with respect to Nacobre, GD Affiliates, and Hong Kong GD Trading Co., Ltd.

⁴ See, e.g., Certain Lined Paper Products From India: Notice of Partial Rescission of Antidumping Duty Administrative Review and Extension of Time Limit for the Preliminary Results of Antidumping Duty Administrative Review, 74 FR 21781 (May 11, 2009); see also Carbon Steel Butt-Weld Pipe Fittings from Thailand: Rescission of Antidumping Duty Administrative Review, 74 FR 7218 (February 13, 2009).

Assessment

The Department will instruct CBP to assess antidumping duties on all appropriate entries. For IUSA, antidumping duties shall be assessed at rates equal to the cash deposit of estimated antidumping duties required at the time of entry, or withdrawal from warehouse, for consumption, during the period November 22, 2010, through October 31, 2011, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent increase in the amount of antidumping duties assessed.

Notification Regarding Administrative Protective Order

This notice serves as a final reminder to parties subject to administrative protective orders (“APOs”) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: February 15, 2012.
Christian Marsh,
Deputy Assistant Secretary for Antidumping and Countervailing Duty Operations.

[FR Doc. 2012-4123 Filed 2-21-12; 8:45 am]

BILLING CODE 3510-DS-P